NATIONAL AERONAUTICS AND SPACE ADMINISTRATION

[Notice 00-107]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: Dates published in the Federal Register.

FOR FURTHER INFORMATION CONTACT: John Kusmiss, Patent Counsel, NASA Management Office-JPL, 4800 Oak Grove Drive, Mail Stop 180-801, Pasadena, CA 91109; Tel. (818) 354-7770.

NASA Case No. NPO 19289-1: On-Chip Learning in VLSI Environment;

NASA Case No. NPO-20403-1: Inrush Current Control Circuit;

NASA Case No. DRC 099-006: Algorithm and Test Technique for a Frequency Excitation Using an Optimized Multiple Frequency Sweep Waveform (Sweepstack).

Dated: September 6, 2000.
Edward A. Frankle,
General Counsel.

[FR Doc. 00-23362 Filed 9-11-00; 8:45 am]

BILLING CODE 7510-01-P